SECURITIES AND EXCHANGE COMMISSION

[File No. 500-1]

In the Matter of Shiming U.S., Inc., Si Mei Te Food Ltd. (f/k/a China Discovery Acquisition Corp.), Sierra International Group, Inc., and SJ Electronics, Inc.; Order of Suspension of Trading

June 21, 2011.

It appears to the Securities and Exchange Commission that there is a lack of current and accurate information concerning the securities of Shiming U.S., Inc. because it has not filed any periodic reports since the period ended June 30, 2007.

It appears to the Securities and Exchange Commission that there is a lack of current and accurate information concerning the securities of Si Mei Te Food Ltd. (f/k/a China Discovery Acquisition Corp.) because it has not filed any periodic reports since the period ended December 31, 2008.

It appears to the Securities and Exchange Commission that there is a lack of current and accurate information concerning the securities of Sierra International Group, Inc. because it has not filed any periodic reports since June 30, 2010. The only other periodic report filed by the company was a Form 10-QSB for the period ended September 30, 2002.

It appears to the Securities and Exchange Commission that there is a lack of current and accurate information concerning the securities of SJ Electronics, Inc. because it has not filed any periodic reports since the period ended June 30, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 21, 2011, through 11:59 p.m. EDT on July 5, 2011.

By the Commission.
Elizabeth M. Murphy,
Secretary.

[FR Doc. 2011-15825 Filed 6-21-11; 4:15 pm]

BILLING CODE 8011-01-P